DEPARTMENT OF TRANSPORTATION

Federal Aviation Administration

14 CFR Part 71

[Docket No. FAA-2023-0599; Airspace Docket No. 22-ASO-11]

RIN 2120-AA66

Amendment and Revocation of Very High Frequency (VHF) Omnidirectional Range (VOR) Federal Airways in the Eastern United States

AGENCY: Federal Aviation Administration (FAA), DOT.

ACTION: Final rule.

SUMMARY: This action amends Very High Frequency (VHF) Omnidirectional Range (VOR) Federal airways V-3, V-157, and V-579; and removes VOR Federal airway V-578 in support of the FAA's VOR Minimum Operational Network (MON) Program.

DATES: Effective date 0901 UTC, August 10, 2023. The Director of the Federal Register approves this incorporation by reference action under 1 CFR part 51, subject to the annual revision of FAA JO Order 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a NPRM for Docket No. FAA-2023-0599 in the Federal Register (88 FR 17434; March 23, 2023), proposing to amend VOR Federal airways V-3, V-157, and V-579; and to remove V-578 in support of the FAA's VOR MON Program. Interested parties were invited to participate in this rulemaking effort by submitting written comments on the proposal. No comments were received.

Incorporation by Reference

VOR Federal airways are published in paragraph 6010(a) of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending VOR Federal airways V-3, V-157, and V-579; and removing V-578 in support of the FAA's VOR MON Program. The changes facilitate the scheduled decommissioning of the following navigation aids: Alma, GA (AMG), VOR/Tactical Air Navigation System (VORTAC); Cross City, FL (CTY), VORTAC; Gators, FL (GNV), VORTAC; and Vance, SC (VAN), VORTAC. The changes are described as follows:

V-3: V-3 currently extends, in two parts: from Key West, FL, to Boston, MA; and from Presque Isle, ME, to Quebec, PQ, Canada. This action removes the route segment between the OWENS, SC, Fix and the Florence, SC (FLO), VORTAC. This segment is dependent on the Vance, SC (VAN), VORTAC which is scheduled to be decommissioned. As a result, the OWENS Fix is redefined using the Allendale, SC (ALD), VOR 116°(T)/117°(M) radial in place of the current Vance 203° radial. In addition, NAV CANADA has cancelled the segment of V-3 that extends through Canadian airspace to Quebec. Consequently, the FAA is replacing the segment from Presque Isle to Quebec with a segment that extends from Presque Isle to a Fix on the U.S./Canadian border. The Fix is defined by the intersection of Presque Isle 270°(T)/291°(M) and the Millinocket, ME 320°(T)/340°(M) radials. The words that exclude the airspace within Canada are removed from the route description.

As amended, V-3 consists of three parts: from Key West, FL, to the intersection of the Savannah, GA 028° and the Allendale, SC 116°(T)/117°(M) radials (i.e., the OWENS Fix); from Florence, SC, to Boston, MA; and From Presque Isle, ME, to the intersection of the Presque Isle 270°(T)/291°(M) and the Millinocket, ME 320°(T)/340°(M) radials.

V-157: Airway V-157 consists of two parts: from Key West, FL, to Richmond, VA; and from Robbinsville, NJ, to Albany, NY. This action amends V-157 by removing the route segment between Waycross, GA and Florence, SC. As amended, V-157 consists of three parts: from Key West, FL to Waycross, GA; from Florence, SC to Richmond, VA; and from Robbinsville, NJ to Albany, NY.

V-578: V-578 extends from Pecan, GA to Savannah, GA. The route is dependent upon the Alma, GA (AMG), VORTAC which is scheduled to be decommissioned. The route also includes the Tift Myers, GA (IFM), VOR which is not operational. Without those navigation facilities, V-158 is no longer viable so the FAA is removing the entire route.

V-579: V-579 extends from Lee County, FL to Vienna, GA. The route is dependent upon the Cross City, FL (CTY), VORTAC and the Gators, FL (GNV), VORTAC, which are being decommissioned. The route also includes the Tift Myers, GA (IFM), VOR which is no longer operational. This action removes the segments from St. Petersburg, FL to Vienna, GA. As amended, V-579 would extend from Lee County, FL to St. Petersburg, FL.

Full descriptions of the amended airways are listed the amendments to part 71 set forth below. The FAA makes these changes in support of the FAA's VOR MON program.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending VOR Federal airways V-3, V-157, and V-579, and removing V-578 in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points) and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR part 71 of FAA Order JO 7400.11G, Airspace Designations and Reporting Points, dated August 19, 2022, and effective September 15, 2022, is amended as follows:

Paragraph 6010(a) Domestic VOR Federal Airways.

* * * * *

V-3 [Amended]

From Key West, FL; INT Key West 083° and Dolphin, FL, 191° radials; Dolphin; Ft. Lauderdale, FL; Palm Beach, FL; Treasure, FL; Melbourne, FL; Ormond Beach, FL; Brunswick, GA; INT Brunswick 014° and Savannah, GA, 177° radials; Savannah; to INT Savannah 028° and Allendale, SC, 116° radials. From Florence, SC; Sandhills, NC; Raleigh-Durham, NC; INT Raleigh-Durham 016° and Flat Rock, VA, 214° radials; Flat Rock; Gordonsville, VA; INT Gordonsville 331° and Martinsburg, WV, 216° radials; Martinsburg; Westminster, MD; INT Westminster 048° and Modena, PA, 258° radials; Modena; Solberg, NJ; INT Solberg 044° and Carmel, NY, 243° radials; Carmel; Hartford, CT; INT Hartford 084° and Boston, MA, 224° radials; to Boston. From Presque Isle, ME; to INT Presque Isle 270°T/291°M and the Millinocket, ME 320°T/340° radials. The airspace within R-2916, R-2934, R-2935, is excluded.

* * * * *

V-157 [Amended]

From Key West, FL; INT Key West 038° and Dolphin, FL, 244° radials; Dolphin; INT Dolphin 331°and La Belle, FL, 113° radials; La Belle; Lakeland, FL; Ocala, FL; INT Ocala 346° and Taylor, FL,170° radials; Taylor, FL; to Waycross, GA. From Florence, SC; Fayetteville, NC; Kinston, NC; Tar River, NC; Lawrenceville, VA; to Richmond, VA; From Robbinsville, NJ; INT Robbinsville 044° and LaGuardia, NY, 213° radials; LaGuardia; INT LaGuardia 032° and Deer Park, NY, 326° radials; INT Deer Park 326° and Kingston, NY, 191° radials; Kingston, NY; to Albany, NY. The airspace within R-6602A, B, and C is excluded when active.

* * * * *

V-578 [Removed]

V-579 [Amended]

From Lee County, FL; INT Lee County 310° and Sarasota, FL, 156° radials; Sarasota; to St. Petersburg, FL.

* * * * *

Issued in Washington, DC, on June 1, 2023.
Brian Konie,
Acting Manager, Airspace Rules and Regulations.

[FR Doc. 2023-12092 Filed 6-6-23; 8:45 am]

BILLING CODE 4910-13-P